DEPARTMENT OF VETERANS AFFAIRS

Advisory Committee on the Readjustment of Veterans Notice of Meeting

The Department of Veterans Affairs (VA) gives notice under Public Law 92-463 (Federal Advisory Committee Act) that a meeting of the Advisory Committee on the Readjustment of Veterans will be held on April 28-29, 2011, at the Sheraton Suites Old Town Alexandria, 801 Saint Asaph Street, Alexandria, Virginia. The sessions will begin at 8 a.m. until 4:30 p.m. on both days. The meeting is open to the public.

The purpose of the Committee is to review the post-war readjustment needs of combat Veterans and to evaluate the availability and effectiveness of VA programs to meet these needs.

On April 28, the Committee will be briefed Principal Deputy Under Secretary for Health on plans for realigning Veterans Health Administration (VHA) to achieve excellence in Veterans' healthcare. The Committee will also receive an update on VA mental health program activities with special attention to mental health services for retuning war Veterans and on VA's caregiver programs developed to assure support services for severely wounded combat Veterans provided primarily by family members.

On April 29, the Committee will receive updates on the current activities of the Readjustment Counseling Service Vet Center program to provide outreach and counseling services to the Veterans returning from Afghanistan and Iraq. Particular attention will be given to the unique post-deployment needs of National Guard and Reserve personnel. The Committee will also receive an update from the Deputy Under Secretary for Health for Policy and Services on VHA's realignment for operations. The Committee will conduct a strategic planning session to formulate recommendations for submission to Congress in its annual report.

No time will be allocated at this meeting for receiving oral presentations from the public. However, members of the public may submit written statements for the Committee's review to Mr. Charles M. Flora, M.S.W., Designated Federal Officer, Readjustment Counseling Service (15), Department of Veterans Affairs, 810 Vermont Avenue, NW., Washington, DC 20420, or e-mail at charles.flora@va.gov. Any member of the public wishing to attend or seeking additional information should contact Mr. Flora at (202) 461-6525.

Dated: April 12, 2011.
By Direction of the Secretary.
William F. Russo,
Director of Regulations Management, Office of General Counsel.

[FR Doc. 2011-9265 Filed 4-15-11; 8:45 am]

BILLING CODE P